DEPARTMENT OF THE TREASURY

Fiscal Service

Surety Companies Acceptable on Federal Bonds—Terminations: Charter Oak Fire Insurance Company (The), Chartwell Insurance Company, GE Reinsurance Corporation, Hartford Underwriters Insurance Company, Insurance Corporation of New York (The), Pacific Insurance Company, Limited, Preferred National Insurance Company, SAFECO Insurance Company of Illinois, SAFECO National Insurance Company, SCOR Reinsurance Company, Sentinel Insurance Company, LTD, Travelers Indemnity Company of America (THE), Travelers Indemnity Company of Connecticut (The), Travelers Indemnity Company of Illinois (The), Trumbull Insurance Company, Twin City Fire Insurance Company, Underwriters Reinsurance Company

AGENCY: Financial Management Service, Fiscal Service, Department of the Treasury.

ACTION: Notice.

SUMMARY: This is Supplement No. 23 to the Treasury Department Circular 570; 2000 Revision, published June 30, 2000, at 64 FR 35864.

FOR FURTHER INFORMATION CONTACT: Surety Bond Branch at (202) 874-6850.

SUPPLEMENTARY INFORMATION: Notice is hereby given that the Certificates of Authority issued by the Treasury to the above named Companies, under the United States Code, Title 31, Sections 9304-9308, to qualify as acceptable sureties on Federal bonds was terminated effective June 30, 2001.

The Companies were last listed as acceptable sureties on Federal bonds at 65 FR starting on page 40868, June 30, 2000.

With respect to any bonds currently in force with above listed Companies, bond-approving officers may let such bonds run to expiration and need not secure new bonds. However, no new bonds should be accepted from these Companies. In addition, bonds that are continuous in nature should not be renewed.

The Circular may be viewed and downloaded through the Internet at http://www.fms.treas.gov/c570/index.html. A hard copy may be purchased from the Government Printing Office (GPO), Subscription Service, Washington, DC, telephone (202) 512-1800. When ordering the Circular from GPO, use the following stock number: 48000-00527-6.

Questions concerning this notice may be directed to the U.S. Department of the Treasury, Financial Management Service, Financial Accounting and Services Division, Surety Bond Branch, 3700 East-West Highway, Room 6A04, Hyattsville, MD 20782.

Dated: June 30, 2001.
Wanda J. Rogers,
Director, Financial Accounting and Services Division, Financial Management Service.

[FR Doc. 01-18541 Filed 7-24-01; 8:45 am]

BILLING CODE 4810-35-M